DEPARTMENT OF COMMERCE

International Trade Administration

[A-570-822]

Certain Helical Spring Lock Washers From the People's Republic of China; Final Results of Antidumping Duty Administrative Review

AGENCY: Import Administration, International Trade Administration, Department of Commerce.

ACTION: Notice of final results of antidumping duty administrative review.

SUMMARY: The Department of Commerce published the preliminary results of the administrative review of the antidumping duty order on certain helical spring lock washers from the People's Republic of China in the Federal Register on July 13, 1999. This review covers sales of this merchandise to the United States during the period October 1, 1997 through September 30, 1998. We gave interested parties an opportunity to comment on our preliminary results. Based upon our analysis of the comments received, we have made changes to the margin calculations presented in the preliminary results of the review. The final weighted-average dumping margins are listed below in the section entitled Final Results of the Review.

EFFECTIVE DATE: May 16, 2000.

FOR FURTHER INFORMATION CONTACT: Sally Hastings, Annika O'Hara or Craig Matney, Import Administration, International Trade Administration, U.S. Department of Commerce, 14th Street and Constitution Avenue, NW., Washington, DC 20230; telephone: (202) 482-3464, (202) 482-3798 or (202) 482-1778, respectively.

Applicable Statute and Regulations

Unless otherwise stated, all citations to the statute are references to the provisions effective January 1, 1995, the effective date of the amendments made to the Tariff Act of 1930, as amended (the Act) by the Uruguay Round Agreements Act (URAA). In addition, unless otherwise stated, all citations to the Department of Commerce's (the Department's) regulations are to 19 CFR part 351 (April 1998).

Background

The Department published the preliminary results of this review of the antidumping duty order on certain helical spring lock washers (HSLWs) from the People's Republic of China (PRC) in the Federal Register on July 13, 1999 (Notice of Preliminary Results of Antidumping Duty Administrative Review; Certain Helical Spring Lock Washers from the People's Republic of China, 64 FR 37743 (Preliminary Results)). Supplemental information regarding surrogate values was submitted on August 4, 1999, by respondent Zhejiang Wanxin Group, Co., Ltd. (ZWG). The petitioner and the respondent submitted case briefs on August 17, 2000. The petitioner, respondent, and the American Fastener Importers Association filed rebuttal briefs on August 23, 2000. We published a notice of extension of time limit for the final results in the Federal Register on November 8, 1999 (64 FR 60771). The Department has now completed this review in accordance with section 751 of the Act.

Scope of Review

The products covered by this review are HSLWs of carbon steel, of carbon alloy steel, or of stainless steel, heat-treated or non-heat-treated, plated or non-plated, with ends that are off-line. HSLWs are designed to: (1) Function as a spring to compensate for developed looseness between the component parts of a fastened assembly; (2) distribute the load over the larger area for screws or bolts; and, (3) provide a hardened bearing surface. The scope does not include internal or external tooth washers, nor does it include spring lock washers made of other metals, such as copper.

HSLWs subject to this review are currently classifiable under subheading 7318.21.0030 of the Harmonized Tariff Schedule of the United States (HSTUS). Although the HTSUS subheading is provided for convenience and customs purposes, the written description of the scope of this proceeding is dispositive.

Period of Review

The period of review (POR) is from October 1, 1997 through September 30, 1998.

Comparisons

We calculated export price and normal value based on the same methodology used in the Preliminary Results, with the following exceptions:

1. We used a more contemporaneous surrogate value for truck freight based on information recently used in Certain Non-frozen Apple Juice Concentrate from the People's Republic of China. (See Memorandum to the File, dated April 18, 2000.)

2. Based on new information provided by the respondent, we used a value for hydrochloric acid that was more contemporaneous with the POR.

3. We corrected errors in our calculations including: steel yield losses; freight distances; the steel scrap offset; the caustic soda and water values; the price inflators for some factors; indirect labor; the calculation and application of the factory overhead, selling, general and administrative expenses, and profit rates; and the calculation of an assessment rate. (For further discussion of these changes, see the Valuation of Factors of Production Memorandum and the ZWG Calculation Memorandum, both dated May 8, 2000.)

4. For labor, we used the revised regression-based wage rate for the PRC, revised May 2000, in “Expected Wages of Selected NME Countries” located on the Internet at http://www.ita.doc.gov/import_admin/records/wages/.

Analysis of Comments Received

All issues raised in the case and rebuttal briefs by parties to this proceeding are addressed in the May 8, 2000, Issues and Decision Memorandum (Decision Memorandum) which is hereby adopted by this notice. Attached to this notice as an appendix is a list of the issues which parties have raised and to which we have responded in the Decision Memorandum. Parties can find a complete discussion of all issues raised in this review and the corresponding recommendations in this public memorandum which is on file in the Central Records Unit, Room B-099 of the Department. In addition, a complete version of the Decision Memorandum can be accessed directly on the Web at www.ita.doc.gov/import_admin/records/frn. The paper copy and electronic version of the Decision Memorandum are identical in content.

Final Results of the Review

As a result of our analysis of the comments received and the correction of clerical errors we discovered, we find that the following weighted-average margins exist:

Manufacturer/exporter | Time period | Margin (percent)
Zhejiang Wanxin Group Co., Ltd | 10/01/97-09/30/98 | 0.00

The Department shall determine, and the Customs Service shall assess, antidumping duties on all appropriate entries. The Department will issue appraisement instructions directly to the U.S. Customs Service.

Furthermore, the following deposit rates will be effective upon publication of these final results for all shipments of HSLWs from the PRC entered, or withdrawn from warehouse, for consumption on or after the publication date, as provided for by section 751(a)(1) of the Act: (1) For ZWG, which has a separate rate, the cash deposit rate will be the company-specific rate established in these final results of review; (2) for all other PRC exporters, the cash deposit rate will be the PRC rate, 128.63 percent, which is the All Other PRC Manufacturers, Producers and Exporters rate from the Final Determination of Sales at Less Than Fair Value: Certain Helical Spring Lock Washers from the PRC, 58 FR 48833 (September 20, 1993); and (3) for non-PRC exporters of subject merchandise from the PRC, the cash deposit rate will be the rate applicable to the PRC supplier of that exporter. These deposit rates shall remain in effect until publication of the final results of the next administrative review.

This notice also serves as a final reminder to importers of their responsibility under section 351.402(f) of the Department's regulations to file a certificate regarding the reimbursement of antidumping duties prior to liquidation of the relevant entries during this review period. Failure to comply with this requirement could result in the Secretary's presumption that reimbursement of antidumping duties occurred and the subsequent assessment of double antidumping duties.

This notice also serves as a reminder to parties subject to administrative protective order (APO) of their responsibility concerning the disposition of proprietary information disclosed under APO in accordance with section 351.305(a)(3) of the Department's regulations. Timely written notification of the return/destruction of APO materials or conversion to judicial protective order is hereby requested. Failure to comply with the regulations and the terms of an APO is a sanctionable violation.

This administrative review and notice are in accordance with sections 751(a)(1) and 777(i)(1) of the Act.

Dated: May 8, 2000.
Troy H. Cribb,
Acting Assistant Secretary for Import Administration.

Appendix

List of Comments in the Issues and Decision Memorandum

Comment 1: Use of Import Prices to Value All Steel Wire Rod Inputs

Comment 2: Use of Import Prices to Value Domestically-sourced Steel Wire Rod

Comment 3: Factory Overhead, SG&A Expenses and Profit in Plating Operations

Comment 4: Inland Freight Charges for Steel Wire Rod

Comment 5: Valuation of Truck Freight

Comment 6: Calculation of Factory Overhead and Profit Rates

Comment 7: Valuation of Hydrochloric Acid

Comment 8: Assessment Rate Calculation for Importer

[FR Doc. 00-12204 Filed 5-15-00; 8:45 am]

BILLING CODE 3510-DS-P